DEPARTMENT OF LABOR

Employment and Training Administration

[TA-W-56,026]

Mayflower Vehicle Systems, Inc., South Charleston Facility, South Charleston, WV; Dismissal of Application for Reconsideration

Pursuant to 29 CFR 90.18(C) an application for administrative reconsideration was filed with the Director of the Division of Trade Adjustment Assistance for workers at Mayflower Vehicle Systems, Inc., South Charleston Facility, South Charleston, West Virginia. The application contained no new substantial information which would bear importantly on the Department's determination. Therefore, dismissal of the application was issued.

TA-W-56,026; Mayflower Vehicle Systems, Inc., South Charleston Facility, South Charleston, West Virginia (May 16, 2005)

Signed at Washington, DC this 17th day of May 2005.
Timothy Sullivan,
Director, Division of Trade Adjustment Assistance.

[FR Doc. E5-2647 Filed 5-24-05; 8:45 am]

BILLING CODE 4510-30-P